DEPARTMENT OF ENERGY

Federal Energy Regulatory Commission

Combined Notice of Filings #2

Take notice that the Commission received the following electric corporate filings:

Docket Numbers: EC13-138-000.

Applicants: Stony Creek Energy LLC.

Description: Application for Authorization under Section 203 of the Federal Power Act of Stony Creek Energy LLC for the Disposition of Jurisdictional Facilities.

Filed Date: 8/22/13.

Accession Number: 20130822-5044.

Comments Due: 5 p.m. e.t. 9/12/13.

Take notice that the Commission received the following electric rate filings:

Docket Numbers: ER10-2712-001.

Applicants: Cargill Power Markets, LLC.

Description: Addendum to July 30, 2013 Supplement to April 30, 2013 Notice of Change in Status of Cargill Power Markets, LLC.

Filed Date: 8/14/13.

Accession Number: 20130814-5164.

Comments Due: 5 p.m. e.t. 9/4/13.

Docket Numbers: ER13-2191-000.

Applicants: Dominion Energy Manchester Street, Inc.

Description: Supplement—Cert of Concurrence Effec Date to be effective N/A.

Filed Date: 8/21/13.

Accession Number: 20130821-5177.

Comments Due: 5 p.m. e.t. 9/11/13.

Docket Numbers: ER13-2219-000.

Applicants: Entergy Services, Inc.

Description: EES Local Balancing Authority Agreements to be effective 12/19/2013.

Filed Date: 8/22/13.

Accession Number: 20130822-5000.

Comments Due: 5 p.m. e.t. 9/12/13.

Docket Numbers: ER13-2220-000.

Applicants: Golden Spread Electric Cooperative, Inc.

Description: Pleasant Hill SGIA First Amendment to be effective 8/7/2013.

Filed Date: 8/22/13.

Accession Number: 20130822-5010.

Comments Due: 5 p.m. e.t. 9/12/13.

Docket Numbers: ER13-2221-000.

Applicants: Entergy Arkansas, Inc.

Description: e.t.EC 10th Rev. NITSA to be effective 8/1/2013.

Filed Date: 8/22/13.

Accession Number: 20130822-5091.

Comments Due: 5 p.m. e.t. 9/12/13.

Docket Numbers: ER13-2222-000.

Applicants: PJM Interconnection, L.L.C.

Description: PJM Interconnection, L.L.C. submits tariff filing per 35.13(a)(2)(iii: Ministerial clean-up filing re previously accepted revisions to PJM RAA Sch 17 to be effective 6/1/2013.

Filed Date: 8/22/13.

Accession Number: 20130822-5100.

Comments Due: 5 p.m. e.t. 9/12/13.

Docket Numbers: ER13-2223-000

Applicants: Town Square Energy, LLC.

Description: Town Square Energy, LLC submits tariff filing per 35.12: Application for Market Based Rate Authority to be effective 10/1/2013.

Filed Date: 8/22/13.

Accession Number: 20130822-5110.

Comments Due: 5 p.m. e.t. 9/12/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 22, 2013.
Nathaniel J. Davis, Sr.,
Deputy Secretary.

[FR Doc. 2013-21194 Filed 8-29-13; 8:45 am]

BILLING CODE 6717-01-P